DEPARTMENT OF THE INTERIOR

Bureau of Reclamation

[DES 03-56]

Lake Berryessa Visitor Services Plan, Napa County, CA

AGENCY: Bureau of Reclamation, Interior.

ACTION: Notice of Availability (NOA) of the Draft Environmental Impact Statement (DEIS) and notice of public hearings.

SUMMARY: In accordance with the National Environmental Policy Act of 1969, the Bureau of Reclamation has made available for public review and comment the DEIS for the Lake Berryessa Visitor Services Plan (VSP). The DEIS outlines the proposed project alternatives that seek to address issues related to the VSP, including the type and level of facilities and services that are appropriate for future uses on Federal land. The current concession contracts at Lake Berryessa expire in 2008/2009. The VSP will be used as a basis for future concession contracts.

DATES: An open house will be held on November 22, 2003, from 1 to 4 p.m.

Two public hearings will be held on January 21, 2004, from 1 to 4 p.m. and 7 to 10 p.m. Requests for special assistance at the public hearings should be made as far in advance of the hearings as possible, but not later than January 7, 2004.

Comments on the DEIS will be accepted on or before February 4, 2004. (See SUPPLEMENTARY INFORMATION section for additional information on the open house, public hearings, submitting comments, and special assistance.)

ADDRESSES: The open house and public hearings will be held at the Solano County Fairgrounds, Exposition Hall, 900 Fairgrounds Drive, Vallejo, CA 94589.

Send comments on the DEIS to Ms. Janet Sierzputowski, Bureau of Reclamation, 2800 Cottage Way (Attn: MP-140), Sacramento, CA 95825. A copy of the Executive Summary, DEIS, and/or the technical appendices may be obtained by calling Ms. Sierzputowski at 916-978-5112.

FOR FURTHER INFORMATION CONTACT: Mr. Stephen Rodgers at 707-966-2111 x106, fax 707-966-0409, or e-mail: srodgers@mp.usbr.gov

SUPPLEMENTARY INFORMATION:

Background

Lake Berryessa was created as part of the Solano Project with the completion of Monticello Dam in 1957. In 1958, Reclamation and the County of Napa entered into an agreement for the County to assume management responsibilities for the lake. A Public Use Plan (PUP) was developed by the National Park Service in 1959 to guide Reclamation and the County in the development of recreational facilities at the lake. In 1975, Reclamation resumed direct management of Lake Berryessa as a result of Title VI of the Reclamation Development Act of October 27, 1974 (Pub. L. 93-493), which authorizes Reclamation to provide for the protection, use, and enjoyment of the aesthetic and recreational values at Lake Berryessa. In 1987, a new planning process began to develop an updated management document for the lake. A Reservoir Area Management Plan (RAMP) was developed to provide guidance for Reclamation in management issues which were not mentioned in the PUP and to assist Reclamation in administering the lake and concession areas. Reclamation completed a Final EIS for the RAMP in 1993.

Presently there are seven concessionaires authorized by Reclamation to provide commercial support services to Lake Berryessa visitors. These seven concession contracts have been in effect since the late 1950s. All the contracts will expire by 2009. Reclamation also administers two day-use areas and a public boat launching facility as well as numerous roadside turnouts and trails. The east side of the lake has been designated a State Wildlife Area and is managed cooperatively by Reclamation and the California Department of Fish and Game.

Visitor Services Plan (VSP)

The VSP will identify and develop the types and levels of recreation support services and facilities to be provided both commercially and by the government at Lake Berryessa. Some of the issues to be addressed in the VSP include day use needs, long-term and short-term recreational vehicle and trailer sites, retention or elimination of exclusive long-term trailer sites as presently operated, campground development, marina development, consolidation or expansion of existing commercial operations, new services development and construction, retention or removal of existing facilities, food and beverage service needs, overnight lodging facilities, and support for marine based activities such as fishing (individual and tournament), swimming, water skiing, etc.

Special Assistance

If special assistance is required, please call Janet Sierzputowski at 916-978-5112. If a request cannot be honored, the requester will be notified. A telephone device for the hearing impaired (TDD) is available at 916-978-5608.

Open House

The open house will be held to provide the public with an opportunity to study the environmental issues addressed in the DEIS. It will consist of informational displays staffed by project team members who will be answering questions.

Public Hearings

The public hearings will be held to provide the public with an opportunity to comment on the DEIS. Oral comments will be taken by a certified court reporter. Comments will also be taken via comment sheets.

Comments

Comments will be accepted in the following formats:

Written—Written comments should be addressed to Ms. Janet Sierzputowski at the address above.

Comment Cards—Comment cards will be available to all that attend the public hearings. They can be returned at the public hearing, faxed to Janet Sierzputowski at 916-978-5114, or mailed to Ms. Sierzputowski at the address above.

Electronic—Comments may be submitted electronically by e-mailing the project team at: jsierzputowski@mp.ubsr.gov.

Additional Information

Additional information is available at the Web site: http:/www.usbr.gov/mp/berryessa.

Comments, including the names and home addresses of respondents, will be available for public review. Individual respondents may request that their home address be withheld from public disclosure, which will be honored to the extent allowable by law. If they wish their name and/or address withheld, they must state that prominently at the beginning of their comment. Submissions from organizations or businesses, and individuals identifying themselves as representatives or officials of organizations or businesses, will be available for public disclosure in their entirety.

Dated: September 25, 2003.
Susan Ramos,
Assistant Regional Director, Mid-Pacific Region.

[FR Doc. 03-27497 Filed 10-30-03; 8:45 am]

BILLING CODE 4310-MN-P